SMALL BUSINESS ADMINISTRATION

[Disaster Declaration #16850 and #16851; COLORADO Disaster Number CO-00131]

Presidential Declaration of a Major Disaster for Public Assistance Only for the State of Colorado

AGENCY: U.S. Small Business Administration.

ACTION: Notice.

SUMMARY: This is a Notice of the Presidential declaration of a major disaster for Public Assistance Only for the State of Colorado (FEMA-4581-DR), dated 01/15/2021.

Incident: Wildfires.

Incident Period: 09/06/2020 through 11/05/2020.

DATES: Issued on 01/15/2021.

Physical Loan Application Deadline Date: 03/16/2021.

Economic Injury (EIDL) Loan Application Deadline Date: 10/15/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/15/2021, Private Non-Profit organizations that provide essential services of a governmental nature may file disaster loan applications at the address listed above or other locally announced locations.

The following areas have been determined to be adversely affected by the disaster:

Primary Counties: Grand, Larimer

The Interest Rates are:

| Percent
For Physical Damage:
Non-Profit Organizations with Credit Available Elsewhere | 2.750
Non-Profit Organizations without Credit Available Elsewhere | 2.750
For Economic Injury:
Non-Profit Organizations without Credit Available Elsewhere | 2.750

The number assigned to this disaster for physical damage is 16850 5 and for economic injury is 16851 0.

(Catalog of Federal Domestic Assistance Number 59008)

Cynthia Pitts,
Acting Associate Administrator for Disaster Assistance.

[FR Doc. 2021-01726 Filed 1-26-21; 8:45 am]

BILLING CODE 8026-03-P